DEPARTMENT OF AGRICULTURE

Office of the Secretary

7 CFR Part 3

[Docket No. USDA-2020-0011]

RIN 0503-AA72

Civil Monetary Penalty Inflation Adjustments for 2021; Correction

AGENCY: Office of the Secretary, U.S. Department of Agriculture (USDA).

ACTION: Correcting amendment.

SUMMARY: On May 10, 2021, we published a final rule amending the U.S. Department of Agriculture's civil monetary penalty regulations by making inflation adjustments as mandated by the Federal Civil Penalties Inflation Adjustment Act Improvements Act of 2015. We are correcting an error that appeared in that final rule.

DATES: Effective June 9, 2021.

FOR FURTHER INFORMATION CONTACT: Mr. Stephen O'Neill, Office of Budget and Program Analysis, USDA, 1400 Independence Avenue SW,Washington, DC 20250-1400, (202) 720-0038.

SUPPLEMENTARY INFORMATION: In a final rule published and effective on June 17, 2020 (85 FR 36670-36714), we amended the U.S. Department of Agriculture's (USDA's) debt management regulations in 7 CFR part 3. As part of that final rule, we revised the regulations in § 3.91 to update the amount of civil monetary penalties that may be levied by USDA agencies to reflect inflationary adjustments for 2020 as required by the 2015 Civil Penalties Act.

In making those updates, we inadvertently introduced an error into paragraph (b)(2)(xiv) of § 3.91. Prior to the effective date of the June 2020 final rule, that paragraph had specified that the civil penalty for a violation of the Commercial Transportation of Equine for Slaughter Act, 7 U.S.C. 1901 note, and its implementing regulations in 9 CFR part 88, as set forth in 9 CFR 88.6, has a maximum of $5,000. The June 2020 final rule should have adjusted that maximum amount to $5,088 consistent with the guidance contained in Office of Management and Budget memorandum M-20-05, which provided a cost-of-living adjustment multiplier for 2020 of 1.01764. However, due to a drafting error, the amount that appeared was $812.

That error carried over into our 2021 adjustments, which were published and effective on May 10, 2021 (86 FR 24699-24703), in which we applied the 2021 cost-of-living adjustment multiplier (1.01182) to the incorrect $812 figure to arrive at an adjusted penalty of $822.

To address these errors, we are amending 7 CFR 3.91(b)(2)(xiv) to replace the incorrect penalty amount with the correct amount, which is $5,148 (i.e., the correct 2020 figure of $5,088 times the 2021 multiplier).

List of Subjects in 7 CFR Part 3

Administrative practice and procedure, Claims, Government employees, Income taxes, Loan programs-agriculture, Penalties, Reporting and recordkeeping requirements, Wages.

Accordingly, we are amending 7 CFR part 3 as follows:

PART 3—DEBT MANAGEMENT

Subpart I—Adjusted Civil Monetary Penalties

1. The authority citation for part 3, subpart I, continues to read as follows:

Authority: 28 U.S.C. 2461 note.

§ 3.91 [Amended]

2. In § 3.91, paragraph (b)(2)(xiv) is amended by removing the amount “$822” and adding the amount “$5,148” in its place.

John Rapp,
Acting Director, Office of Budget and Program Analysis.

[FR Doc. 2021-12110 Filed 6-8-21; 8:45 am]

BILLING CODE 3410-90-P